DEPARTMENT OF THE INTERIOR

National Park Service

[NPS-WASO-NRNHL-17281: PPWOCRADI0, PCU00RP14.R50000]

National Register of Historic Places; Notification of Pending Nominations and Related Actions

Nominations for the following properties being considered for listing or related actions in the National Register were received by the National Park Service before November 29, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by January 14, 2015. Before including your address, phone number, email address, or other personal identifying information in your comment, you should be aware that your entire comment—including your personal identifying information—may be made publicly available at any time. While you can ask us in your comment to withhold your personal identifying information from public review, we cannot guarantee that we will be able to do so.

Dated: December 5, 2014.
Roger Reed,
Acting Chief, National Register of Historic Places/National Historic Landmarks Program.

ALASKA

Anchorage Borough-Census Area

Government Hill Federal Housing Historic District, W. Harvard, Delaney & Brown Sts., Anchorage, 14001147

CALIFORNIA

Amador County

Withington, George and Eliza, House, 10 Welch Ln., Ione, 14001148

Los Angeles County

Mount Lowe Railway District (Boundary Increase), Address Restricted, Altadena, 14001146

IOWA

Polk County

Elliott Furniture Company, 424 E. Locust St., Des Moines, 14001149

MASSACHUSETTS

Worcester County

Upton Center Historic District, Church, Main, Milford, Nelson, N. Main, Plain, Pleasant, School & Warren Sts., Upton, 14001150

MISSISSIPPI

Copiah County

Wesson Presbyterian Church, (Copiah County MPS), 1022 E. Railroad Ave., Wesson, 14001151

Harrison County

Biloxi Downtown Historic District (Boundary Increase), (Biloxi MRA) Roughly bounded by Rue Magnolia, Howard Ave., Main & Water Sts., Biloxi, 14001152

Reynoir Street Historic District, (Biloxi MRA), 200 blk. Reynoir St., Biloxi, 14001153

West Central Historic District (Boundary Decrease and Increase), (Biloxi MRA), Roughly bounded by CSXRR, Hopkins Blvd. & Benachi Ave., Biloxi, 14001154

Madison County

Canton Cemetery, S. Adams St., Canton, 14001155

Marion County

Columbia Country Club, 28 Golf Course Rd., Columbia, 14001156

MISSOURI

Crawford County

Dillard Mill Historic District, 142 Dillard Mill Rd., Davisville, 14001157

Jackson County

Independence Boulevard Christian Church, 606 Gladstone Blvd., Kansas City, 14001158

NEW YORK

Monroe County

Miller—Horton—Barben Farm, 983 W. Bloomfield Rd., Mendon, 14001161

OREGON

Lincoln County

Look—Out on Cape Foulweather, The, 4905 Otter Crest Loop, Otter Rock, 14001159

Washington County

McDonald, Malcom, House, 22180 NW., Birch St., Hillsboro, 14001160

WASHINGTON

Spokane County

Levesque—Majer House, 1708 S. Maple Blvd., Spokane, 14001162

Palmer, Eben and Cynthia, Farmstead, 6616 E. Orchard Rd., Spokane, 14001163

[FR Doc. 2014-30446 Filed 12-29-14; 8:45 am]

BILLING CODE 4312-51-P